DEPARTMENT OF HOMELAND SECURITY

Office of Grants and Training, Citizens Corps; Agency Information Collection Activities: Submission for New Online Information Collection, Comment Request

AGENCY: Department of Homeland Security, Office of Grants and Training, Citizens Corps.

ACTION: Notice; 60-day notice request for comments.

SUMMARY: The Department of Homeland Security (DHS) invites the general public and other Federal agencies the opportunity to comment on new online information collection request 1670-NEW, Citizen Corps Profiles in Hometown Security Application 1670-NEW. As required by the Paperwork Reduction Act of 1995, (Pub. L. 104-13, 44 U.S.C. chapter 35) as amended by the Clinger-Cohen Act (Pub. L. 104-106), DHS is soliciting comments for the approved online information collection request.

DATES: Written comments should be received on or before December 26, 2006 to be assured consideration.

ADDRESSES: Citizen Corps, Attn: Jeanie Moore, 810 7th Street, NW., Washington, DC 20531.

FOR FURTHER INFORMATION CONTACT: Jeanie Moore, (202) 786-9858. This is not a toll free number.

SUPPLEMENTARY INFORMATION: Direct all written comments to the Department of Homeland Security at the above address. A copy of this Information Collection Request, with applicable supporting documentation, may be obtained by calling the Paperwork Reduction Act Contact listed above. The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

Analysis

Agency: Department of Homeland Security, Office of Grants and Training, Citizens Corps.

Title: Citizen Corps Profiles in Hometown Security.

OMB No.: 1660-NEW.

Frequency: 1,430 times per year.

Affected Public: Citizen Corps Council Citizen Corps Council members, program managers, Program Partners and Affiliates.

Estimated Number of Respondents: 1,430 responses per year.

Estimated Time per Respondent: 2 hours per response.

Total Burden Hours: 2,860 hours.

Total Burden Cost: (capital/startup): None.

Total Burden Cost: (operating/maintaining): None.

Description: This online information collection available at http://citizencorps.eyestreet.com/ccProfiles/secure/profileAdd.do?fromstart=fromstart will enable Citizen Corps to operate effectively and efficiently. Profiles in Hometown Security will be a new online collection of 1-page summaries to communicate Citizen Corps members' involvement in safety and security incidents. By gathering this information and posting it to the Citizen Corps Web site, all Councils and the general public will be able to draw from others' experience with personal and community prevention, preparedness, response and mitigation, based on hands-on experiences. This information will also help the national Citizen Corps Council gauge its progress in the field, as well as opportunities for growth and enhancement.

Citizen Corps will accept Profiles in Hometown Security through its Web site, where a Section 508 compliant online form will make it easy for local Councils to submit their information, as well as provide an efficient way to store, categorize, sort and pull information from the compiled submissions.

Dated: October 17, 2006.
Charlie Church,
Chief Information Officer.

[FR Doc. E6-17805 Filed 10-23-06; 8:45 am]

BILLING CODE 4010-10-P